DEPARTMENT OF COMMERCE

International Trade Administration

[A-570-916]

Notice of Antidumping Duty Order: Laminated Woven Sacks From the People's Republic of China

AGENCY: Import Administration, International Trade Administration, Department of Commerce.

SUMMARY: Based on affirmative final determinations by the Department of Commerce (the “Department”) and the International Trade Commission (“ITC”), the Department is issuing an antidumping duty order on laminated woven sacks from the People's Republic of China (“PRC”). On July 30, 2008, the ITC notified the Department of its affirmative determination of material injury to a U.S. industry. See Laminated Woven Sacks from China, Investigation No. 731-TA-1122 (Final), USITC Publication 4025 (July 2008).

DATES: Effective Date: August 7, 2008.

FOR FURTHER INFORMATION CONTACT: Javier Barrientos, AD/CVD Operations, Office 9, Import Administration, International Trade Administration, U.S. Department of Commerce, 14th Street and Constitution Avenue, NW., Washington, DC 20230; telephone: (202) 482-2243.

SUPPLEMENTARY INFORMATION:

Background

In accordance with sections 735(d) and 777(i)(1) of the Tariff Act of 1930, as amended (the “Act”), on June 24, 2008, the Department published Laminated Woven Sacks from the People's Republic of China: Final Determination of Sales at Less Than Fair Value and Partial Affirmative Determination of Critical Circumstances, 73 FR 35646 (June 24, 2008) (“Final Determination”).

Scope of the Order

The merchandise covered by this investigation is laminated woven sacks. Laminated woven sacks are bags or sacks consisting of one or more plies of fabric consisting of woven polypropylene strip and/or woven polyethylene strip, regardless of the width of the strip; with or without an extrusion coating of polypropylene and/or polyethylene on one or both sides of the fabric; laminated by any method either to an exterior ply of plastic film such as biaxially-oriented polypropylene (“BOPP”) or to an exterior ply of paper that is suitable for high quality print graphics; ¹ printed with three colors or more in register; with or without lining; whether or not closed on one end; whether or not in roll form (including sheets, lay-flat tubing, and sleeves); with or without handles; with or without special closing features; not exceeding one kilogram in weight. Laminated woven sacks are typically used for retail packaging of consumer goods such as pet foods and bird seed.

¹ “Paper suitable for high quality print graphics,” as used herein, means paper having an ISO brightness of 82 or higher and a Sheffield Smoothness of 250 or less. Coated free sheet is an example of a paper suitable for high quality print graphics.

Effective July 1, 2007, laminated woven sacks are classifiable under Harmonized Tariff Schedule of the United States (“HTSUS”) subheadings 6305.33.0050 and 6305.33.0080. Laminated woven sacks were previously classifiable under HTSUS subheading 6305.33.0020. If entered with plastic coating on both sides of the fabric consisting of woven polypropylene strip and/or woven polyethylene strip, laminated woven sacks may be classifiable under HTSUS subheadings 3923.21.0080, 3923.21.0095, and 3923.29.0000. If entered not closed on one end or in roll form (including sheets, lay-flat tubing, and sleeves), laminated woven sacks may be classifiable under other HTSUS subheadings including 3917.39.0050, 3921.90.1100, 3921.90.1500, and 5903.90.2500. If the polypropylene strips and/or polyethylene strips making up the fabric measure more than 5 millimeters in width, laminated woven sacks may be classifiable under other HTSUS subheadings including 4601.99.0500, 4601.99.9000, and 4602.90.0000. Although HTSUS subheadings are provided for convenience and customs purposes, the written description of the scope of this investigation is dispositive.

Provisional Measures

Section 733(d) of the Act states that suspension of liquidation instructions issued pursuant to an affirmative preliminary determination may not remain in effect for more than four months except where exporters representing a significant proportion of exports of the subject merchandise request the Department to extend that four-month period to no more than six months. At the request of exporters that account for a significant proportion of LWS, we extended the four-month period to no more than six months. See Laminated Woven Sacks From the People's Republic of China: Preliminary Determination of Sales at Less Than Fair Value, Partial Affirmative Determination of Critical Circumstances, and Postponement of Final Determination, 73 FR 5801, 5811 (January 31, 2008) (“Preliminary Determination”). In this investigation, the six-month period beginning on the date of the publication of the Preliminary Determination, (i.e., January 31, 2008) ended on July 28, 2008. Furthermore, section 737 of the Act states that definitive duties are to begin on the date of publication of the ITC's final injury determination. Therefore, in accordance with section 733(d) of the Act, we will instruct U.S. Customs and Border Protection (“CBP”) to terminate suspension of liquidation and to liquidate without regard to antidumping duties (i.e., release all bonds and refund all cash deposits with interest), unliquidated entries of LWS from the PRC entered, or withdrawn from warehouse, for consumption after July 29, 2008, and before the date of publication of the ITC's final injury determination in the Federal Register. Suspension of liquidation will continue on or after the date of publication of the ITC's final injury determination in the Federal Register.

Antidumping Duty Order

On July 30, 2008, in accordance with section 735(d) of the Act, the ITC notified the Department of its final determination, pursuant to section 735(b)(1)(A)(i) of the Act, that an industry in the United States is materially injured by reason of less-than-fair-value imports of subject merchandise from the PRC. Therefore, in accordance with section 736(a)(1) of the Act, the Department will direct CBP to assess, upon further instruction by the Department, antidumping duties equal to the amount by which the normal value of the merchandise exceeds the export price (or constructed export price) of the merchandise for all relevant entries of laminated woven sacks from the PRC. These antidumping duties will be assessed on all unliquidated entries of laminated woven sacks from the PRC entered, or withdrawn from the warehouse, for consumption on or after January 31, 2008, the date on which the Department published its preliminary determination. See Preliminary Determination.

The ITC also notified the Department that it made a negative critical circumstances determination in this investigation. Therefore, we will instruct CBP to lift suspension, release any bond or other security, and refund any cash deposit made to secure the payment of antidumping duties with respect to entries of the merchandise entered, or withdrawn from warehouse, for consumption on or after November 2, 2007, but before January 31, 2008 (i.e., the 90 days prior to the date of publication of the Preliminary Determination).

Effective on the date of publication of the ITC's final affirmative injury determination, CBP will require, at the same time as importers would normally deposit estimated duties on this merchandise, a cash deposit equal to the estimated weighted-average antidumping duty margins as listed below. See section 735(c)(3) of the Act. The “PRC-wide” rate applies to all exporters of subject merchandise not specifically listed. The weighted-average dumping margins are as follows:

Exporter | Producer | Weight- average margin (percent)
ZIBO AIFUDI PLASTIC PACKAGING CO., LTD | ZIBO AIFUDI PLASTIC PACKAGING CO., LTD | 64.28
POLYWELL INDUSTRIAL CO., a.k.a. FIRST WAY (H.K.) LIMITED | POLYWELL PLASTIC PRODUCT FACTORY | 64.28
ZIBO LINZI WORUN PACKING PRODUCT CO., LTD | ZIBO LINZI WORUN PACKING PRODUCT CO., LTD | 64.28
SHANDONG QIKAI PLASTICS PRODUCT CO., LTD | SHANDONG QIKAI PLASTICS PRODUCT CO., LTD | 64.28
CHANGLE BAODU PLASTIC CO. LTD | CHANGLE BAODU PLASTIC CO. LTD | 64.28
ZIBO LINZI SHUAIQIANG PLASTICS CO. LTD | ZIBO LINZI SHUAIQIANG PLASTICS CO. LTD | 64.28
ZIBO LINZI QITIANLI PLASTIC FABRIC CO. LTD | ZIBO LINZI QITIANLI PLASTIC FABRIC CO. LTD | 64.28
SHANDONG YOULIAN CO. LTD | SHANDONG YOULIAN CO. LTD | 64.28
ZIBO LINZI LUITONG PLASTIC FABRIC CO. LTD | ZIBO LINZI LUITONG PLASTIC FABRIC CO. LTD | 64.28
WENZHOU HOTSON PLASTICS CO. LTD | WENZHOU HOTSON PLASTICS CO. LTD | 64.28
JIANGSU HOTSON PLASTICS CO. LTD | JIANGSU HOTSON PLASTICS CO. LTD | 64.28
CANGNAN COLOR MAKE THE BAG | CANGNAN COLOR MAKE THE BAG | 64.28
ZIBO QIGAO PLASTIC CEMENT CO. LTD | ZIBO QIGAO PLASTIC CEMENT CO. LTD | 64.28
PRC-WIDE RATE |  | 91.73

This notice constitutes the antidumping duty order with respect to laminated woven sacks from the PRC pursuant to section 736(a) of the Act. Interested parties may contact the Department's Central Records Unit, Room 1117 of the main Commerce building, for copies of an updated list of antidumping duty orders currently in effect.

This order is published in accordance with section 736(a) of the Act and 19 CFR 351.211.

Dated: August 4, 2008.
David M. Spooner,
Assistant Secretary for Import Administration.

[FR Doc. E8-18196 Filed 8-6-08; 8:45 am]

BILLING CODE 3510-DS-P